FEDERAL COMMUNICATIONS COMMISSION

47 CFR Part 52

[WC Docket No. 18-336; FCC 24-111; FR ID 258492]

Implementation of the National Suicide Hotline Act of 2018

AGENCY: Federal Communications Commission.

ACTION: Final rule.

SUMMARY: In this document, the Federal Communications Commission (Commission) adopted a Third Report and Order that requires wireless providers to implement a georouting solution for calls to the 988 Suicide & Crisis Lifeline (988 Lifeline or Lifeline) to facilitate access to critical local intervention services. The majority of calls to the 988 Lifeline are made from wireless phones. However, the 988 Lifeline's system was originally designed to route calls to crisis centers based on a caller's area code and exchange, which may not correspond to the caller's physical location. With georouting data, the 988 Lifeline will be able to route wireless calls to local crisis centers based on the geographic area where the handset is located at the time the 988 call is initiated while maintaining privacy by not identifying the caller's precise location. The Third Report and Order also revises the Commission's existing 988 voice and texting rules to permit routing to the 988 Lifeline without translation to a toll free access number, giving wireless providers flexibility in implementing georouting solutions.

DATES:

Effective date: This rule is effective December 12, 2024.

Compliance dates: Compliance with the addition of 47 CFR 52.202 is required for nationwide Commercial Mobile Radio Service (CMRS) providers by 30 days after December 12, 2024 and compliance is required for all CMRS providers by 24 months after December 13, 2024.

ADDRESSES: Federal Communications Commission, 445 12th Street SW, Washington, DC 20554.

FOR FURTHER INFORMATION CONTACT: For further information, contact Merry Wulff at Merry.Wulff@fcc.gov or at (202) 418-1084.

SUPPLEMENTARY INFORMATION: This is a summary of the Commission's Third Report and Order in WC Docket No. 18-336, FCC 24-111, adopted on October 17, 2024 and released on October 18, 2024. The full text of the document is available on the Commission's website at https://docs.fcc.gov/public/attachments/FCC-24-111A1.pdf. To request materials in accessible formats for people with disabilities (e.g., Braille, large print, electronic files, audio format, etc.), send an email to FCC504@fcc.gov or call the Consumer & Governmental Affairs Bureau at (202) 418-0530 (voice).

Congressional Review Act

The Commission has determined, and the Administrator of the Office of Information and Regulatory Affairs, Office of Management and Budget, concurs, that this rule is non-major under the Congressional Review Act, 5 U.S.C. 804(2). The Commission sent a copy of this Third Report & Order to Congress and the Government Accountability Office pursuant to the Congressional Review Act, see 5 U.S.C. 801(a)(1)(A).

Synopsis

1. In this Third Report and Order, and consistent with our proposal in the Implementation of the National Suicide Hotline Act of 2018, Second Further Notice of Proposed Rulemaking (SFNPRM), 89 FR 46340 (May 29, 2024), we adopt a rule that would require wireless providers to implement a georouting solution for calls to the 988 Lifeline. We find that a georouting mandate will strengthen and improve access to the critical benefits of the 988 Lifeline for callers in crisis. We then define the type of location data that qualifies as georouting data. Next, we require nationwide and non-nationwide Commercial Mobile Radio Service (CMRS) providers to have the capability to provide georouting data with 988 calls to the Lifeline Administrator in a format that is compatible with the 988 Lifeline's routing platform to allow routing of calls by generating location data using cell-based location technology. We require CMRS providers to aggregate the cell-based location data to a level that will not identify the location of the cell site or base station receiving the 988 call or otherwise identify the precise location of the handset, thereby protecting the privacy of the caller.

2. To give wireless providers flexibility for this mandate, we do not specify a particular method for aggregating the location data and allow providers to use technically feasible options for meeting this requirement to the extent that they are compatible with the systems used by the 988 Lifeline. This approach is consistent with solutions deployed or being deployed by the three nationwide CMRS providers. We then establish an implementation timeline for georouting calls to the 988 Lifeline of 30 days following the effective date of the rule for nationwide CMRS providers, which is supported by the nationwide providers' representations that they will have already deployed compliant 988 georouting solutions by the compliance deadline. This action will ensure that as soon as possible, the vast majority of callers to the 988 Lifeline in the United States have access to support and resources most closely connected to their location with appropriate privacy safeguards. We expect that non-nationwide CMRS providers will be able to leverage the solutions implemented by the nationwide providers, and for that reason, we require non-nationwide providers to implement georouting 24 months after the effective date of the rule. Finally, we revise our existing 988 voice and texting rules to allow for routing to the national suicide prevention and mental health crisis hotline system maintained by the U.S. Department of Health and Human Services' (HHS) Substance Abuse and Mental Health Services Administration (SAMHSA) and the U.S. Department of Veterans Affairs (VA) without need for translation to the toll free number. Overall, we find that the reasonable and flexible georouting mandate and rule revisions we adopt will provide certainty that 988 callers will be connected to the crisis center nearest to them.

Georouting Will Improve Access and Efficiency of the 988 Lifeline

3. Under our current rules, calls to 988 must first be routed to the existing toll free ten-digit access number for the 988 Lifeline, from which they are then routed to one of over 200 regional crisis centers based on the area code and exchange of the caller's telephone number supplied by the originating service provider. The Commission's rules also require covered 988 text messages to be routed to the 988 Lifeline's current toll free ten-digit access number. The Wireline Competition Bureau granted a waiver to allow covered text providers to route covered 988 text messages to the 988 Lifeline using the short code protocol without translation to the Lifeline's current toll free access number. This allows return texts from the 988 Lifeline to appear on consumer devices as coming from 988 rather than 1-800-273-TALK. As technology trends have shifted from landline phones to mobile phones, many callers now rely on wireless devices with area codes that may not correspond to their physical locations when contacting the 988 Lifeline, complicating their access to vital local services. In the SFNPRM, we explained that the majority of calls placed to the 988 Lifeline are from wireless phones, and the area codes of those phones often do not correspond to the location of the caller. The Lifeline Administrator estimates that 80% of calls placed to the 988 Lifeline are from wireless phones. While 988 call takers can provide support regardless of a caller's location, they may not be able to connect callers in crisis to local resources. We proposed to adopt a rule that would require wireless providers to implement one or more georouting solutions for calls to the 988 Lifeline in order to ensure more accurate routing of calls. After reviewing the record in this proceeding, we find that requiring wireless providers to support georouting for wireless 988 calls is essential to improve the public's access to the 988 Lifeline's critical mental health crisis and suicide prevention services.

4. The record demonstrates near-unanimous agreement for the assertion that there is a need to improve routing of wireless 988 calls to help ensure that callers are routed to geographically appropriate crisis centers. Commenters, including industry and mental health advocates, agree that georouting for 988 wireless calls will improve access to critical local resources and help connect callers to counselors who may be more knowledgeable about unique community stressors and other regional, cultural, and economic factors impacting callers in distress. As several mental health advocates emphasize, access to local resources and support can mean the “difference between life and death for hundreds of thousands of individuals annually.” Commenters also highlight that georouting for 988 calls will improve access to referral and follow-up services that may reduce the risk of future mental health crises and suicidality. For example, Mental Health America states that connecting callers to “support based on their physical location can enable crisis contact centers to provide connections to local resources and follow-up services, reducing the risk of suicidality for individuals in crisis.” Several commenters also assert that follow-up services are “more meaningful when a caller is connected to local crisis support.”

5. Mental health and crisis counselors also emphasize that connecting callers with local crisis centers may avert unnecessary dispatch of emergency services and law enforcement. For example, Mental Health America states that “the ability for 988 callers to be routed to local crisis centers allows counselors to better respond to unique factors and situations, which may also help avoid unnecessary use of emergency services and law enforcement.” Similarly, as the current Lifeline Administrator explains, connecting callers to trained counselors who can offer “emotional support and local care resources” can avert “unnecessary use of emergency services and law enforcement,” which is paramount. Moreover, many commenters assert that implementing georouting solutions for wireless 988 calls will enhance the ability of crisis centers to respond effectively to emergency situations and facilitate the dispatch of mobile crisis services.

6. The record also demonstrates that a georouting mandate for wireless 988 calls will advance digital equity by helping to ensure that at-risk populations can more easily access resources in their communities. As the Lifeline Administrator explains, certain populations with a higher risk of suicide are disproportionately impacted by the Lifeline's area code-based routing system, including older adults, youth and young adults, non-Hispanic Black, American Indian, and Alaska Native communities.

Georouting Mandate for Wireless 988 Voice Calls

7. Based on the record presented and in furtherance of the policy goals articulated above, we require nationwide and non-nationwide CMRS providers to implement georouting solutions for calls to the 988 Lifeline. Specifically, we require that all CMRS providers have the capability to provide georouting data with 988 calls to the Lifeline Administrator in a format compatible with the Lifeline's routing platform, to allow routing of 988 calls by the Lifeline Administrator to the appropriate crisis center based on the geographic area where the handset is located at the time the 988 call is initiated. We further require that all CMRS providers must provide georouting data, when available, with 988 calls to the Lifeline Administrator sufficient to allow routing of the 988 call by the Lifeline Administrator. In conjunction with our mandate, we recognize the Lifeline Administrator's commitment to continue to “safeguard user privacy and confidentiality” as georouting is implemented.

8. Georouting. We define “georouting data,” for purposes of these rules, as location data generated from cell-based location technology that is aggregated to a level that will not identify the location of the cell site or base station receiving the 988 call or otherwise identify the precise location of the handset. We find that this definition of “georouting data” most appropriately balances the need to maintain the privacy of 988 callers while ensuring the 988 Lifeline has the information needed to route calls to geographically appropriate crisis centers. The record reflects significant support for georouting solutions that provide geographic routing information to the Lifeline without identifying a caller's precise location. Indeed, we received over 1,500 comments from National Alliance on Mental Illness (NAMI) advocates representing nearly every State expressing support for requiring wireless providers to implement georouting solutions for 988 calls while protecting privacy. Many commenters emphasized the importance of not disclosing more precise location information to maintain callers' privacy and ensure trust in the 988 Lifeline. Several commenters also highlight that the expectations of 988 callers differ from the context of 911 calls, where callers generally expect an immediate, location-specific medical or police response.

9. To ensure the privacy of 988 callers, we decline, at this time, to require wireless providers to provide more precise geolocation data with 988 calls. Commenters, including mental health advocates and crisis counseling experts, express significant privacy concerns about including geolocation information with wireless 988 calls, which, unlike georouting data, does involve the transmission of a caller's precise location. The Commission previously considered the potential benefits of including geolocation information with calls to the 988 Lifeline. In this regard, in April 2021, as directed by Congress pursuant to the National Suicide Hotline Designation Act of 2020, the Commission submitted a report that examined the costs and feasibility of transmitting dispatchable location information with calls to 988. As the Wireline Competition Bureau explained in the 988 Geolocation Report, transmitting geolocation information with calls to the 988 Lifeline raised a variety of important privacy concerns, legal issues, and technical complexities that require extensive investigation and time to resolve. Several commenters highlight that the challenges identified in the 988 Geolocation Report remain relevant today. Moreover, the record does not evidence a need to include geolocation information with wireless 988 calls to facilitate routing to the appropriate local crisis center.

10. The rules we adopt allow CMRS providers and the Lifeline Administrator flexibility in developing and implementing technical solutions, for example, aggregating georouting data at the county or wire center level, while protecting privacy interests by prohibiting the transmission of more granular cell site data or the precise location of the caller. In its comments, the Lifeline Administrator explains that the georouting solutions developed by the nationwide wireless providers, in conjunction with SAMHSA and the Lifeline Administrator were designed to “minimize[ ] user-specific data to simply route the user to the nearest crisis center based on cell phone tower data, rather than using a callers' exact phone location.” Similarly, T-Mobile asserts that its georouting solution “protects the privacy interest of callers by not providing precise geolocation information.” CX360 also states that the georouting solutions “never capture[ ] a help seeker's precise location.” We anticipate that the definition of “georouting data” that we adopt will give nationwide CMRS providers the flexibility to continue their efforts to implement georouting solutions and comply with their obligations to protect user location information. Additionally, we believe these privacy safeguards included in the definition alleviate record concerns that georouting rules may “inadvertently suppress use of the 988 Lifeline” due to concerns about disclosing geolocation information.

11. Voluntary Implementation by Nationwide CMRS Providers. We recognize that certain commenters contend that mandating georouting for wireless 988 calls is unnecessary at this time. Some telecommunications industry commenters oppose adoption of rules requiring CMRS providers to implement georouting solutions for wireless 988 calls, arguing that georouting solutions will soon be available through the voluntary efforts of nationwide CMRS providers. They also claim that mandating georouting may introduce uncertainty, potentially delaying or complicating the deployment of georouting solutions. While we recognize industry's assertions, these providers also acknowledge the importance of promptly implementing georouting solutions for wireless 988 calls. In mandating georouting, we carefully balance the request to proceed more cautiously, as voiced by providers, with the significant record support calling for the need for a georouting mandate that enhances access to critical local services for callers in crisis without delay, while giving providers the flexibility to develop georouting solutions that fit with their network capabilities to the extent that those solutions are compatible with the systems used by the Lifeline.

12. As we noted in the SFNPRM, certain stakeholders have already engaged with SAMHSA and the Lifeline Administrator to develop georouting solutions for 988 calls. The record reflects that the three nationwide wireless providers have already implemented georouting for wireless 988 calls or are in the process of deploying georouting solutions in their networks. We support the voluntary efforts by wireless providers and our Federal partners to deploy georouting solutions for 988 calls in their wireless networks. We decline, however, to allow deployment of georouting solutions on a purely voluntary basis. Given the clear public interest benefits of supporting georouting for wireless 988 calls, we find that deployment and implementation of georouting solutions for wireless 988 calls should not be optional.

13. We disagree with CTIA's contention that no commenters have offered “a reason why rules are needed to ensure that 988 georouting solutions are implemented.” As the Lifeline Administrator states, a georouting mandate is needed to ensure consistent access to the 988 Lifeline's localized resources, prevent variations in support based on an individual's service provider, and to allow the 988 Lifeline to better serve individuals in crisis. The nation's mental health and substance use disorder community also supports immediate action to require wireless providers to implement georouting solutions for wireless 988 calls, emphasizing the urgency of connecting individuals in crisis to local services. For these reasons, we conclude that allowing wireless providers to implement georouting solutions on a purely voluntary basis would undermine our goal of ensuring that the benefits of georouting are realized nationwide in a timely manner.

14. We further disagree with commenters that our georouting requirements would interfere with the efforts of the three major nationwide wireless providers to implement and deploy georouting solutions. The rules we adopt give wireless providers the flexibility to continue their efforts to implement the georouting solutions developed with SAMHSA and the Lifeline Administrator, ensuring that the benefits of improved 988 call routing can be realized without delay. ATIS asserts that “[a] more flexible, requirements-based approach would facilitate the timely deployment of 988 routing solutions” and allow wireless providers to “continue their deployments.” Further, as AT&T states, a general requirement will “not interfere with existing efforts between wireless providers” and will provide “flexibility to adapt to changing technologies.”

15. Georouting Required for all CMRS Providers. We find that requiring all CMRS providers to have the capability to provide georouting data with 988 calls is necessary to ensure that wireless 988 callers receive the demonstrated benefits of georouting, regardless of the providers' network configurations. We define nationwide CMRS providers as those providers whose service extends to a majority of the population and land area of the United States. Non-nationwide CMRS providers include all CMRS providers other than a nationwide CMRS provider. We agree with Reimagine Crisis Response that “[c]onnecting more people to timely and local crisis support and services through accurately routed 988 calls will save lives.” For that reason, we decline to limit application of our rules to voice calls carried end-to-end on IP networks, as advocated by some commenters. However, we recognize that current georouting solutions may rely on the IP-based capabilities of the Lifeline and wireless providers' networks, which may impact wireless providers' ability to transmit georouting data with wireless 988 calls over non-IP networks. Therefore, the rules we adopt require nationwide and non-nationwide providers to provide georouting data when available and offer flexibility for wireless providers to work with the Lifeline Administrator on a case-by-case basis to address any individualized network considerations. We also provide non-nationwide providers an ample compliance deadline, as discussed below, to allow time for development of technical solutions. We conclude that this approach appropriately balances the public interest in providing critical improvements to life-saving services with CMRS providers' needs to develop technical solutions to implement the new requirements. We find that the targeted requirements we adopt give wireless providers sufficient flexibility to capitalize on their current technology and network configurations to ensure that the maximum number of wireless 988 callers benefit from georouting as quickly as possible. The Commission will take further action, if necessary, to ensure that wireless providers are providing the Lifeline Administrator with georouting data when available to ensure the Administrator is capable of routing wireless 988 calls.

16. We are unpersuaded by arguments that non-nationwide CMRS providers should be exempt from implementing georouting for wireless 988 calls. Rural Wireless Association (RWA) claims that georouting solutions have not “been tested in a real-world application and implemented by any CMRS provider.” Southern Linc also claims that non-nationwide CMRS providers have not yet participated in the georouting “solutions development process.” The record reflects, however, that the nationwide providers have developed and implemented or are in the process of implementing georouting solutions for wireless 988 calls. While we acknowledge that non-nationwide CMRS providers may face operational limitations when implementing georouting solutions for wireless 988 calls, we agree with commenters that non-nationwide CMRS providers will be able to leverage the georouting solutions developed and implemented by nationwide providers in collaboration with SAMHSA and the Lifeline Administrator. Further, several commenters highlight the importance of implementing georouting solutions to improve access to the 988 Lifeline's crisis intervention services for people in rural areas, who face a disproportionate risk of suicide and may need to be aware of limited mental healthcare resources available near their communities. We encourage non-nationwide CMRS providers to collaborate with SAMHSA and the Lifeline Administrator in developing and implementing georouting solutions. To further reduce the burden on non-nationwide entities under the rules we adopt, we grant longer compliance timelines to non-nationwide CMRS providers, as discussed below.

Georouting Data Format Compatible With the Lifeline

17. In the SFNPRM, we described our goal to “undertake a holistic review to ensure that any georouting solution deployed is compatible with the needs and systems of the 988 Lifeline, as determined by SAMHSA, and successfully connects callers in crisis with the local support they need.” The requirements we adopt will ensure that the vast majority of wireless 988 callers receive the benefits of georouting as expeditiously as possible by ensuring that georouting data is provided in a format that is compatible with the Lifeline's routing platform, maintaining the centralized routing system of the 988 Lifeline, and giving wireless providers sufficient flexibility to implement and deploy georouting solutions.

18. Capability to Provide Georouting Data. Consistent with the SFNPRM, we require all CMRS providers to have the capability to provide georouting data with 988 calls to the Lifeline Administrator in a format that is compatible with the Lifeline's routing platform. The record evinces support for this requirement. For example, CX360 states that georouting solutions that leverage the Lifeline's existing infrastructure “create technical efficiencies” and align with the Lifeline's efforts to provide “community-based support with national-level support for specific at-risk communities.” T-Mobile asserts that compatibility with the Lifeline will avoid the significant costs incurred for network or system changes and “minimize[ ] the risk of technological errors” in efficiently delivering 988 calls. Several commenters also indicate that georouting data in a format that is compatible with the Lifeline's routing platform will prevent delays in deploying georouting solutions. Moreover, the Lifeline Administrator emphasizes, and we agree, that implementing georouting solutions that are compatible with the 988 Lifeline's “existing infrastructure and a uniform standard developed in partnership with SAMHSA and the Administrator [will] allow the 988 Lifeline to better serve individuals in crisis.” We emphasize that our rules create an ongoing obligation for wireless providers to ensure that georouting data is in a format that is compatible with the Lifeline's routing platform. We encourage wireless providers to collaborate with SAMHSA and the Lifeline Administrator in developing and testing georouting solutions that meet these compatibility requirements.

19. The record reflects that the three nationwide wireless providers have already developed and implemented, or are in the process of implementing georouting solutions, that are compatible with the needs and systems of the 988 Lifeline. As the Lifeline Administrator notes, these georouting solutions are the preferred solution for the Lifeline, were designed to be compatible with the Lifeline's existing routing structure, and do not require “creation of an entirely new 988 Lifeline framework and architecture.” We anticipate that the approach we adopt will allow wireless providers to build on the success of the efforts of the nationwide wireless providers, streamlining implementation and costs while facilitating faster deployment of georouting solutions.

20. Given the importance of providing meaningful support to help-seekers reaching out to the 988 Lifeline, we recognize that our Federal partners may choose to expand the functionality of the Lifeline's system in the future to support additional georouting data formats. We direct the Wireline Competition Bureau to routinely consult with our Federal partners at SAMHSA regarding the format of georouting data that is compatible with the Lifeline's system. We further direct the Wireline Competition Bureau to monitor the development of compatible georouting solutions and, if necessary, propose and seek comment on implementation parameters for wireless providers for any compatible georouting data that is substantially modified from the georouting rule adopted herein.

21. Centralized Routing. Today, routing to the appropriate crisis call center is handled by a centralized routing system overseen by the Lifeline Administrator and supported by a grant from SAMHSA, and we find it is critical to retain this structure. We agree with commenters that our rules should preserve the role of the Lifeline Administrator in routing 988 calls to geographically appropriate local crisis centers. Consistent with the SFNPRM, we recognize that SAMHSA and the Lifeline Administrator are best suited to ensure that calls are properly routed and ultimately answered by a crisis center once the call is received by the Lifeline Administrator from the originating wireless provider. The record highlights that the Lifeline Administrator, under the direction of SAMHSA, plays a critical role in managing the 988 Lifeline's system by balancing call volume, ensuring calls are efficiently routed to appropriate and available crisis centers, and minimizing the technical burdens placed on crisis centers so they can focus on saving lives. As USTelecom emphasizes, the challenges associated with routing calls to the Lifeline are not limited to directing calls to the “correct crisis center,” but also ensuring they reach available crisis centers, given that many have varying operating hours.

22. We find that the success of the Lifeline system in helping individuals in crisis underscores the importance of maintaining the centralized routing system. As the Lifeline Administrator notes, “[e]valuations of the 988 Lifeline service have found that the majority of callers were significantly more likely to feel less depressed, less suicidal, less overwhelmed, and more hopeful after speaking with a 988 Lifeline crisis counselor.” We find that the requirements we adopt appropriately maintain the critical role of the Lifeline in routing calls to crisis centers. Additionally, we believe that this approach alleviates record concern about the roles of CMRS providers and the Lifeline in the 988 call path.

23. Although some commenters argue that alternative georouting solutions that bypass the Lifeline's centralized routing system may offer some benefits for 988 callers, we find that the benefits of centralized routing greatly exceed the costs of localized routing. In the 988 Report and Order, 85 FR 57767 (Sept. 16, 2020), the Commission found that the Lifeline's centralized routing process offered numerous benefits for both the providers that route calls to the 988 Lifeline and the Lifeline itself, including faster implementation, lower costs to maintain 988 routing, and better Lifeline service. We are convinced by the record that these benefits still remain true today. In particular, we believe that maintaining the Lifeline's centralized routing process will simplify administration of the Lifeline and allow for faster implementation of georouting solutions. For example, the Lifeline Administrator states that the georouting solutions developed with the nationwide wireless providers using the Lifeline's centralized routing process “would be cost-effective” for both the Lifeline and providers, and would allow for faster deployment of georouting solutions.

24. Specialized Services. We decline, at this time, to take specific action to apply our georouting requirements to the Lifeline's specialized services. In the SFNPRM, we sought comment on whether georouting is necessary for specialized services, and whether there are any unique considerations for routing such calls that may impact our proposals. As discussed above, the 988 Lifeline's interactive voice response (IVR) system currently provides callers the opportunity to connect with specialized services by selecting “1” for the Veterans Crisis Line, “2” for a Spanish language line, and “3” for a specialized LGBTQI+ line.

25. We recognize that several commenters assert that georouting data may provide benefits for individuals who use the Lifeline's specialized services, such as the LGBTQI+ community and veterans. However, the record demonstrates that there are unique considerations for specialized services, including the need for access to specially trained counselors, resource constraints, and increased privacy concerns. For example, Trevor Project explains that while “geographic location can provide a strong cultural connection for many 988 callers,” research has shown that “competency with LGBTQ+ youth issues is the critical element necessary to effectively support LGBTQ+ young people in crisis.” We believe our Federal partners at SAMHSA and the VA are best positioned to evaluate the benefits and challenges of using georouting data provided with 988 calls for the Lifeline's subnetworks. We anticipate that maintaining the existing centralized routing process will provide the Lifeline flexibility to use its expertise in deciding the most geographically appropriate crisis centers to direct callers who select specialized services. We also anticipate that our rules will better allow the Lifeline to adapt and expand as necessary to meet the unique needs of 988 callers who select specialized services.

Cell-Based Location for Georouting

26. The definition of “georouting data” we adopt specifies that location data is generated using cell-based location technology. This aspect of the georouting rule is central to allowing the nationwide providers' solutions to proceed and maintain compatibility with the Lifeline's centralized routing platform. Mental health and crisis counseling experts emphasize the importance of connecting callers to local resources while still protecting the privacy of callers. As Trevor Project states, “it is vital that a georouting solution is adopted so that those reaching out to 988 can trust it will not jeopardize their privacy.” After considering the record, we find that generating location information using cell-based location technology will best identify a caller's location to enable routing of 988 calls to geographically appropriate crisis centers, while maintaining the privacy interests of callers. We anticipate that this approach will also provide nationwide providers flexibility to deploy current georouting solutions developed with the SAMHSA and the Lifeline Administrator. As discussed throughout this Third Report and Order, although there are commenters that argue an alternative routing solution is preferable, we decline to stray from the Lifeline's current routing structure and we encourage stakeholders and our Federal partners to continue to coordinate on the best way to get callers to the geographically appropriate crisis center.

Aggregation of Cell-Based Location Data

27. We require CMRS providers to aggregate location data generated from cell-based technology to a level that will not identify the location of the cell site or base station receiving the 988 call or otherwise identify the precise location of the handset. In the SFNPRM, we sought comment on whether the Commission should mandate the use of one or more particular geographic boundaries that would be applied for georouting solutions and asked commenters to address whether certain boundaries are sufficiently granular to achieve the goal of connecting callers with local resources during a time of crisis. Our decision carefully balances two core objectives of georouting: ensuring the location data is sufficiently granular to connect the caller with local resources and maintaining the caller's privacy.

28. We agree with commenters that CMRS providers need flexibility to facilitate timely deployment of 988 georouting solutions and account for providers' network capabilities. To give CMRS providers flexibility, we do not specify a particular method for ensuring that location data is aggregated to a sufficiently granular level and allow providers to use technically feasible options for meeting this requirement. Similarly, we decline to mandate the use of one or more particular geographic boundaries. We do, however, require wireless providers to aggregate location data to a level that does not identify the location of the cell site or base station receiving the 988 call or otherwise identify the precise location of the handset.

29. We observe that the georouting solutions the three nationwide wireless providers have deployed or are currently implementing employ different geographic boundaries. For example, T-Mobile's georouting solution obtains caller location information using cell-based technology, aggregates that location data using Federal Information Processing Series (“FIPS”) code boundaries, and transmits the georouting data as a 6-digit code in the P-Asserted-Identity (PAI) header of a Session Initiation Protocol (SIP) invite message to the Lifeline. The Federal FIPS codes are maintained and assigned by the Census Bureau to identify geographic areas. Whereas, AT&T's georouting solution aggregates location data using wire center boundaries correlating to the originating cell site. A wire center, as defined in 47 CFR 51.5, is the location of an incumbent Local Exchange Carrier (LEC) switching facility containing one or more central offices. The wire center boundaries define the area in which all customers served by a given wire center are located. The Lifeline Administrator has confirmed that these solutions are compatible with the Lifeline's network configuration and centralized routing system. Commenters generally agree that county level or wire-center boundaries are sufficiently generalized to protect callers' privacy while still enabling the Lifeline to effectively route calls to geographically appropriate crisis centers.

30. NACO requests that we provide sufficient flexibility to allow State and local authorities “to define the boundaries within their jurisdiction that are most suitable” for georouting purposes. While we recognize the role that counties play in addressing the nationwide mental health crisis, we decline at this time to require wireless providers to aggregate location data based on a particular State or local authority's definition of appropriate geographic boundaries. Washington Department of Health claims that allowing wireless providers to use multiple geographic boundaries “would negatively impact crisis centers' ability to accurately predict the volume of need and provide services,” which would be particularly challenging “in areas where multiple languages are spoken by different communities.” As the Lifeline Administrator notes, states and localities are already involved in the “operational decision making process with SAMHSA and Vibrant” regarding routing of 988 calls and coverage areas of crisis centers. We acknowledge that wireless providers' geographic boundaries must align with the 988 network parameters of the Lifeline Administrator and encourage SAMHSA and the Lifeline Administrator to continue their collaborative efforts with stakeholders, and we believe that preserving the Lifeline's centralized routing process provides our Federal partners flexibility to develop and expand georouting solutions to meet the Lifeline's needs.

31. We anticipate that our flexible approach toward adopting a georouting mandate strikes the right balance between ensuring that location data is sufficiently granular to achieve the goal of connecting wireless 988 callers with local resources without delay, aligning with the requirements delineated by SAMHSA and the Lifeline Administrator, and maintaining the privacy of 988 callers. We believe that the requirement to aggregate georouting data to a level that does not identify the location of the cell site or base station receiving the 988 call or a more precise location of the handset alleviates record concern about protecting privacy of callers in more densely populated areas. We also anticipate that our approach gives wireless providers discretion to aggregate georouting data using technically feasible methods that are best suited for their networks.

Technical Considerations

32. In the SFNPRM, we recognized that there could be technological limitations associated with some georouting solutions and sought comment on whether solutions would work if, for instance, a caller is roaming or if a particular wireless call is out-of-scope for a georouting solution or presents with unreadable routing data. We find that the limitations commenters raised are addressable without jeopardizing the georouting rule we adopt, and which is so critical to further improve the 988 Lifeline for callers in crisis.

33. Roaming. Some commenters state technical limitations associated with georouting solutions may arise when individuals call 988 while roaming. CTIA asserts that the “home network operator” may not receive location information, such as the originating cell ID, or may not be able to “correlate the visited provider's cell ID” to geographic boundaries to generate georouting data. AT&T states that “4G and newer wireless networks,” as designed, do “not support georouting a 988 call made while roaming.” Although we acknowledge the substantial public interest benefits in requiring georouting for all wireless 988 calls, we exclude calls transmitted using roaming capabilities from application of the requirements we adopt to account for the technical limitations identified in the record. We anticipate that our targeted approach will give providers sufficient flexibility to maximize their current technology and network configurations to ensure that the vast majority of wireless 988 callers benefit from georouting as quickly as possible. Calls using roaming capabilities may be routed to qualified crisis counselors using the area code and exchange, as they are today. Upon development of a further record pertaining to the technical feasibility of transmitting georouting data with roaming calls, the Commission may further consider extending the georouting requirements to these calls. Issues raised in the SFNPRM that are not addressed in this Third Report and Order remain pending.

34. Default Routing. In the SFNPRM, we sought comment on whether 988 calls with unreadable routing data would default to routing by area code or be redirected to a national back-up center. The record demonstrates that, while the benefits of georouting for 988 calls are clear, it is critical that callers still have access to the Lifeline's vital services if georouting data is unavailable or unreadable. CX360, a service provider that contracts with the Lifeline Administrator to provide voice and SMS-based information services after calls reach the Lifeline, explains that the Lifeline's IVR system has “built-in backup routing logic that routes the call based on the caller's area code.” Several commenters that addressed this issue support defaulting to routing by area code and exchange when georouting data is unreadable. We agree, and we view retaining the centralized routing process will enable the Lifeline to route callers to crisis centers based on area code and exchange in the event that georouting data is unavailable or unreadable, and such calls will not be disconnected.

Alternative Georouting Solutions

35. We emphasized in the SFNPRM that we believe implementing a georouting solution without delay to connect callers to 988 with geographically appropriate crisis call centers provides better care. With this urgency in mind, we sought comment on the feasibility of requiring alternative georouting solutions that have not yet been tested, developed, or presented to SAMHSA or the Lifeline Administrator and asked whether such solutions would expedite or slow deployment of georouting. After reviewing the record, we decline, at this time, to adopt commenters' alternative georouting proposals that would bypass the Lifeline's centralized routing system or require CMRS providers to route directly to crisis centers. Several commenters argue that the Commission should consider adopting rules that allow routing of 988 calls directly to NG911 networks upon request from states that can manage 988 calls directly and have defined “geospatial boundaries” for 988 crisis centers. Intrado Life & Safety asks the Commission to adopt rules that support direct routing of 988 calls to “state-designated IP Protocol (IP) points of interconnection (POI),” such as the “Emergency Services IP Network (ESInet)” in alignment with Next Generation 911 (NG911), upon request from a state. Similarly, Comtech urges the Commission to adopt rules that provide “state 988 authorities the flexibility to develop their own direct, dedicated, IP-based 988 call paths and system architecture to meet their local needs.” The National Emergency Number Association (NENA) also urges the Commission to consider the use of NG911 technologies to support georouting for 988 calls and argues that a 988 call should “be treated as an emergency call.”

36. We do not adopt these proposals at this time as we work to expeditiously improve routing for 988 calls within the 988 Lifeline's system. Nevertheless, recognizing the importance of developing solutions capable of connecting callers to the most geographically appropriate resources, we encourage parties to continue exploring alternative localized georouting solutions. In the SFNPRM, we stated that the ultimate goal of the coordination between SAMHSA, the Lifeline Administrator, and the Commission was to identify one or more georouting solutions that are compatible with the 988 Lifeline's system and achieve the policy objectives of connecting callers in crisis with local support. We further stated that our goal was to build on the progress made by all stakeholders to identify a georouting solution to enhance the support and resources available to callers in crisis. The record reflects support for this approach.

37. We are also concerned that implementing a localized routing model at this time would be contrary to our goal of ensuring that georouting is available without delay to connect the majority of callers to 988 with geographically appropriate crisis centers that enhance the services available to those in crisis. CTIA asserts that proposals that require modification of the centralized routing process for 988 calls are inconsistent with the georouting solutions that have been developed by the nationwide wireless providers, major stakeholders, SAMHSA, and the Lifeline Administrator. The Lifeline Administrator and CX360 point to necessary infrastructure changes that could delay implementation of georouting solutions. Additionally, the Lifeline Administrator states that “reliance on technologies, such as NG911, can impact the ability . . . to carry out its duties as Administrator, including responsibility for routing of contacts to the 988 Lifeline.” Overall, we do not have the full and detailed record necessary to adopt a rule that requires providers to bypass the existing centralized routing system, and we find that doing so would jeopardize the important next step that we are taking by implementing georouting as soon as possible.

38. We decline NENA's request to establish an expiration date for mandatory georouting requirements. NENA emphasizes the potential benefits of implementing georouting solutions for wireless 988 calls that leverage NG911 technologies. While parties claim that NG911 technology could provide benefits for georouting calls to the 988 Lifeline, those benefits do not negate the current need for the requirements that we adopt in this Third Report and Order. Given the significant public interest benefits of supporting georouting for wireless 988 calls, we decline to set an end date for our rules, but we may consider further technological developments in the future.

Implementation Time Frame for Georouting 988 Calls to the Lifeline

39. Recognizing the urgency of the need to continue the Commission's work to provide meaningful access to the 988 Lifeline, we sought comment in the SFNPRM on the appropriate timeline for deployment of a georouting solution, and specifically asked commenters to identify technical, financial, operational, legal, or other factors that could influence a mandated time frame. Thanks in large part to the work of SAMHSA and nationwide CMRS providers to date, the record indicates that implementation of solutions for sending georouting data along with wireless calls is attainable in the near term. We therefore establish an implementation time frame following the effective date of the georouting rule of 30 days for nationwide CMRS providers and 24 months for all non-nationwide CMRS providers. As we define them above, nationwide CMRS providers are those providers whose service extends to a majority of the population and land area of the United States. Non-nationwide CMRS providers include all CMRS providers other than a nationwide CMRS provider.

40. The implementation time frame we provide nationwide CMRS providers corresponds to these providers' own solution-completion timelines. T-Mobile, for example, began sending georouting information to the 988 Lifeline even before the publication of our rules and has since announced that its customers now “have their calls routed to crisis centers close to their actual location.” All three nationwide providers have implemented, or are in the process of implementing, their georouting solutions for wireless 988 calls. Consistent with these expectations, we find sufficient a 30-day period after the effective date of our rules to require nationwide CMRS providers to begin sending georouting data with wireless 988 calls. Establishing such a time frame represents a critical first step toward ensuring that callers—a vast majority of whom subscribe to a nationwide CMRS provider—will be routed to a geographically appropriate call center.

41. Simultaneously, we conclude that 24 months provides sufficient time for non-nationwide CMRS providers to begin sending georouting information to the 988 Lifeline. Commenters agree that non-nationwide CMRS providers require more time to implement a georouting solution. For example, Intrado Life & Safety proposes that their solution could be completed within a year but acknowledge that additional time may be needed for non-nationwide CMRS providers. We find that 24 months strikes an appropriate balance between giving these providers the necessary time to come into compliance and the pressing need to expeditiously connect callers to a geographically appropriate call center. A 24-month period for implementation, as noted by CCA and Southern Linc, also accords with our decision to give providers 24 months to implement location-based routing for 911 call solutions.

42. RWA asserts that small rural CMRS providers lack the resources to implement a georouting solution before 36 months. Although we understand RWA's contention that a lack of funding and personnel comparable to the nationwide providers warrants additional time for small rural CMRS providers, RWA has not demonstrated the need for the additional 12 months beyond the two years we are providing. Recognizing that their 36-month recommendation exceeds the 24 months that were given for 911 location-based call solutions to be implemented, RWA contends that with 911, “large nationwide CMRS providers had already begun implementing location-based solutions, which was an influential factor in . . . adopting a shorter implementation timeline,” but that “[i]n this case, such early implementation has not occurred.” RWA argues then that the “untested nature of the available 988 georouting solutions and lack of real-world implementation by any CMRS provider” merits an additional 12 months for implementation of a georouting solution. Yet, as observed above, nationwide CMRS providers have implemented or are in the process of implementing their georouting solutions. And RWA does not otherwise justify their recommended timeline of 36 months, which—at minimum—adds two years beyond the time frames cited as necessary by existing proposals that account for small CMRS providers. INCOMPAS also argues, and CTIA agrees, that additional time would be needed—up to four years—for sending georouting information with text messages. However, as we do not mandate that text messages send georouting information at this time, we need not address this argument. Additionally, we note that the Commission previously established a uniform 24-month implementation time frame for 988 itself, which involved implementing 10-digit dialing in 87 area codes as well as reprogramming, translating, or replacing telephone switches that would not otherwise support 988 as a three-digit dialing code. We do not anticipate, by comparison, that implementation of a georouting solution will prove more burdensome. It is our predictive judgment that 24 months accounts for the technical and cost-related challenges non-nationwide CMRS providers will face in implementing this lifesaving change to the 988 system.

Routing Voice Calls and Texts to 988

43. In the SFNPRM, we asked whether our existing 988 voice and texting rules should be broadened to allow for implementing a georouting solution. We conclude that it's appropriate to revise these rules to permit routing to the national suicide prevention and mental health crisis hotline system without need for translation to the toll free access number. In so doing, we better futureproof the use of 988, including by enabling georouting solutions that may require broader routing parameters. In making these changes, we also codify our 2022 waiver order permitting covered text providers to route covered 988 text messages to the 988 Lifeline without translation to the toll free number. We previously acknowledged that “as implementation has progressed, providers have found that, in practice, translating 988 text messages to the current toll free access number for the Lifeline . . . may negatively impact the experience of individuals texting the Lifeline.” Problems identified as arising from the current requirement included potential confusion when a number different than 988 appears on an individual's device when receiving responses, possibly resulting in delayed, frustrated, or abandoned efforts to seek help. Our revisions provide greater flexibility so as to avoid any similar such problems. Individuals will still be able to dial the toll free ten-digit access number to reach the 988 Lifeline.

44. We do not adopt iCERT's proposal to amend our rule to require providers to route directly to a State or local 988 call center. The amendment we adopt resolves the issues identified above without potential delay to the implementation of georouting solutions. We therefore decline at this time to adopt alternative approaches that would bypass the Lifeline's centralized routing platform.

Legal Authority

45. As we tentatively concluded in the SFNPRM, we find that Title II and Title III of the Communications Act of 1934, as amended (Act), provide us with the authority to adopt the rules we promulgate. The Supreme Court has previously recognized that Title III grants the Commission a “comprehensive mandate” in regulating spectrum usage, and lower courts have routinely determined that Title III confers broad authority to manage spectrum in the public interest. Consistent with these decisions, we find significant public interest benefits will likely inure as a result of our georouting mandate by connecting individuals in crisis with geographically appropriate public safety and counseling resources.

46. In the SFNPRM, we asked whether section 251(e), which provides the Commission its numbering authority, acts as an additional source of authority. Section 251(e)(4), specifically, designates 988 as the universal telephone number for the national suicide prevention and mental health crisis hotline system. We agree with commenters that our authority extends to mandating that a georouting solution be implemented. We also agree with commenters that in so doing, we further the goals of previous congressional directives, including to adopt regulations that will ease access to suicide prevention and mental health services. In mandating that a georouting solution be implemented and in modifying our voice and text routing rules, we thus exercise our numbering authority pursuant to Congress's direction and therefore find that 251(e) provides us authority to promulgate the rules we adopt.

Benefits and Costs of 988 Georouting

47. By reducing the geographic mismatch between caller locations and area codes and moving 988's life-saving interventions closer in time and space to those in distress, georouting will generate mortality-reduction and other benefits far exceeding implementation costs.

Benefits

48. Reduced Suicide Mortality. The number of Americans who are at risk of having their wireless 988 calls routed to a faraway 988 Lifeline call center is vast. Approximately 80% of calls to 988 are from wireless devices. In a mobile society where people hold on to familiar wireless phone numbers, there is often no connection between the geographic origins of 988 calls and the area codes of the callers' phone numbers. According to a study conducted by Pew Research Center, “each year about 36 million Americans move residences and nearly half of adults living in urban areas have a cellphone number from somewhere else. Additionally, nationwide at least 10% of all adult Americans have a cellphone number from somewhere other than where they reside.” While we recognize that 988 is a critical resource of growing importance for younger people, for the purposes of our analysis we focus on all adults, that is, individuals 18 years or older.

49. We use a three-step process to estimate reduced suicide mortality risk. First, we identify suicide victims who could have tried to summon 988 assistance and been misrouted. After the launch of 988 on July 16, 2022, a total of 2,395 American adult suicide victims 18 and older could have sought a 988 emergency intervention but had cellphone numbers prone to misrouting. Total suicides for adults 18 years or older in 2022 were 47,891. If we allocate by months, then there were ~23,946 in the latter half of the year (i.e., 6/12 = 0.5). We can alternatively allocate by total suicides for July-December (i.e., 24,742/49,746 = 0.500008085), which gives the same result. Polling results tell us that 431 (i.e., 18% of 2,395) of these suicide victims could have been aware of 988 and possibly called. Kaiser Family Foundation polling indicates that as of mid-2023, only 18% of adults reported familiarity with 988. Second, we identify those victims subject to possible emergency-response delays: Nearly 13 (i.e., 3% of 431) would have required the sort of immediate and follow-up care that could be more effectively provided by georouting 988 calls to the locality in which the caller resides without revealing the caller's precise location or otherwise compromising their privacy. We estimate that 2.2 (i.e., 17% of 13) of these suicides could have been avoided by 988 georouting. Our rationale is that wireless call misrouting is suboptimal: localities have first-responder and follow-up resources tailored to local settings and circumstances to optimize their effectiveness; such resources can often only be deployed by local crisis centers. The delays, frictions, and mismatches triggered by misrouting increase response time, and every minute saved in a suicide intervention reduces suicide mortality. The Commission previously estimated that a one-minute reduction in emergency-response time reduces mortality by 17%. Thus, while the rules promulgated do not impose a dispatchable location requirement—that is, a caller's exact location cannot be identified—by connecting callers to geographically appropriate crisis centers, we anticipate that better response times, and the benefits thereof, will result. Third, we estimate that Americans would have been collectively willing to pay $27.5 million annually and nearly $130 million over a five-year period for a mortality-risk reduction of this size. Using a recent Value of Reduced Mortality Risk (VRMR) of $12.5 million, a mortality-risk reduction equivalent to 2.2 lives is worth 2.20 * $12,500,000 = $27,500,000. The present value of five annual payments discounted at 2% according to Office of Management and Budget Circular A-4 is $129.620,136.

50. Other Benefits and Possible Benefits Underestimation. Our estimate of $120 million in benefits over five years is an underestimate because it excludes youth age 17 and under, who rely heavily on wireless devices and 6,542 of whom committed suicide in 2022. Studies indicate 53% of children in the United States have a smartphone by age 11, with over 95% of teens between 13 and 17 years of age having access to a cellphone. In addition, suicide attempts—more broadly acts of self-harm—demand medical treatment, put people out of work, and diminish survivors' quality of life. Yet, we have not estimated the savings from reduced medical expenses, lost work, and lost quality of life. We also do not count the benefits of less property damage attributable to suicide attempts and savings of 988 Lifeline call center resources from fewer misrouted calls. In addition, misrouted 988 callers often resort to calling 911. A reduction in these calls would likely save further costs. Lastly, we have neglected to estimate the devasting emotional toll 988 wireless call georouting would spare suicide victims' families, friends, and communities.

Costs

51. We estimate that the implementation costs of georouting 988 wireless calls will be relatively small. RWA claims “RWA carrier members, all of whom are small rural non-nationwide CMRS providers, estimate that 988 georouting solutions could cost them at least $50,000 for implementation and over $15,000 per month for third-party services, not including continual labor costs for testing. Such a cost is an immense burden for a small rural non-nationwide CMRS provider.” Some commenters propose cost-effective 988 routing solutions: CX360 that “[t]here are no incremental service costs to wireless providers for CX360's georouting solution beyond the initial development expense for call header configuration by each wireless provider. All other parties in the existing 988 Lifeline call flow are already configured to support this model.” Vibrant indicates that “[t]he georouting solution developed in conjunction with Vibrant's partners for the 988 Lifeline telephony infrastructure and major wireless providers represents the preferred solution that would allow real-time routing updates without the creation of an entirely new 988 Lifeline framework and architecture. This solution would be cost-effective not only for the 988 Lifeline but for providers as well and is able to be deployed faster than other proposed solutions.” In the nearer term, “nationwide wireless providers AT&T, T-Mobile, and Verizon have achieved consensus with the Lifeline Administrator, Vibrant, on the contours of georouting solutions and are working to implement them as quickly as practicable.” The georouting solutions rely on geographic information associated with call origination, such as the cell-site identification number, which the provider can translate into a county identifier. Based the record, we conclude that cost-effective 988 wireless call georouting solutions exist in theory and in practice. To minimize their financial burden, non-nationwide wireless providers facing greater financial constraints have been granted a full 24 months to find and implement a solution.

Additional Proposals

52. We appreciate the opportunity, as the expert regulatory agency on telecommunications in the United States, to help facilitate access to the 988 Lifeline's critical mental health and suicide prevention services. It is also important that we recognize the important role that our Federal partners and others play in operating the 988 Lifeline. In response to the SFNPRM, some commenters raised important issues that are more appropriately addressed by other parties or may fall outside the scope of this proceeding. We address these issues below and encourage interested parties to collaborate with our Federal partners at SAMHSA and the VA, along with other stakeholders, to continue their efforts in enhancing the effectiveness of the 988 Lifeline.

53. Transparency. Several commenters emphasized the importance of transparent communication and education about how georouting data is used for wireless 988 calls. For example, NAMI asserts that transparency regarding the use of georouting data will help “build trust in the 988 Lifeline” and alleviate fears about sharing location information, which may have resulted from factors such as a “historic distrust” of emergency response systems or misinformation about the use of such data. The Electronic Privacy Information Center (EPIC) also argues that transparently acknowledging the harms of non-consensual interventions for 988 callers can help mitigate “the chilling effects of implementing mandated georouting on would-be 988 callers.” We recognize the importance of transparent communication and believe that the Commission's website, together with continued collaboration with our Federal partners at SAMHSA, will serve as a valuable means of consumer education. We also expect that relevant 988 stakeholders will help contribute to these educational efforts.

54. EPIC also urges the Commission to be transparent about the actions taken in the rare instances when a 988 call is transferred to 911. The Lifeline Administrator states that “[i]n rare situations, a 988 crisis counselor may contact a public safety answering point dispatcher because of concerns about an immediate risk of life, pursuant to the 988 Lifeline Suicide Safety policy.” While we recognize harms can occur from a non-consensual interventions, the georouting requirements we adopt apply only to CMRS providers routing calls to the 988 Lifeline, which is distinct from the functions performed by the Lifeline Administrator or individual crisis centers after the Lifeline receives the calls. The Commission has had no role in establishing, maintaining, or operating the 988 Lifeline's routing system or the facilities and systems that enable it, and is not a party to any agreement that the Lifeline Administrator and/or SAMHSA has entered to establish, structure, operate, govern, or fund the system.

55. 988 Lifeline Funding and Services. We also received comments regarding the need for adequate funding to ensure that the 988 Lifeline and crisis centers can effectively support georouting, as well as other recommendations that commenters claim would improve the general effectiveness of the 988 Lifeline. While these recommendations fall outside of our jurisdiction, we note that our Federal partners at SAMHSA are “planning for anticipated operational, training and procedural updates [that] will require active engagement with partners including states, territories, tribes and crisis centers.” We also encourage stakeholders to work with Congress to ensure appropriate funding for the 988 Lifeline.

56. 911 Interoperability. We received several comments urging the Commission to consider issues pertaining to the interoperability between the 988 Lifeline and 911 services. For example, NENA argues that “988 must technically and operationally interoperate with [911] and first responder operations.” Similarly, the National Association of State 911 Administrators (NASNA) argues that as the 988 system evolves, successful interoperability with NG911 will be essential “when there is a crisis that requires an escalated response.” We agree with commenters that facilitating interoperability between 988 and 911 services is an important goal, however these proposals are beyond the scope of this proceeding, and we decline to address them further here. We also note that the Lifeline Administrator is currently “involved in ongoing efforts at the local, state, and national levels” to address the interoperability between 988 and 911 services. We, therefore, encourage stakeholders to collaborate with our Federal partners.

57. Coordination with American Indian and Alaska Native Communities. Northwest Portland Area Indian Health Board (NPAIHB) recommends that the Commission, SAMHSA, and wireless providers consult with Tribal communities to ensure that American Indian and Alaska Native communities are “able to utilize the 988 Lifeline and be connected to locally centralized suicide prevention and crisis service centers when using a wireless device.” We support NPAIHB's suggestion and believe connecting Tribal community members with local crisis centers is crucial to providing these communities with the meaningful help they need. As such, we stand ready to work with our Federal partners and industry to assist American Indian and Alaska Native communities' access the life-saving resources of the 988 Lifeline.

58. Opt-Out, website, and Call Disclosure Requirements. We received comments urging the Commission to consider whether 988 callers will have the opportunity to opt out of sharing georouting data. The Massachusetts Association for Mental Health (MAMH) and EPIC urge the Commission to “require 988 websites to indicate that georouting is used” and provide information about accessing the Lifeline's national backup center or individual crisis centers. EPIC also argues that “disclosure about georouting and non-georouted alternatives needs to occur during a call.” To the extent that commenters raise concerns regarding disclosures about the use of georouting data on 988 websites or after the Lifeline's centralized routing system receives a call, such issues address actions by entities that are beyond the scope of this proceeding. Additionally, the georouting rules we adopt do not require wireless providers to transmit more precise geolocation information with wireless 988 calls, but rather require aggregated georouting data that maintains caller privacy in order to enhance the Lifeline's routing mechanism. Therefore, we decline, at this time, to require wireless providers to include specific disclosures regarding the use of georouting data.

59. Cost Recovery. RWA argues that the Commission should “allocate funds to subsidize” implementation efforts by non-nationwide CMRS providers to comply with a georouting mandate. RWA further argues that small rural non-nationwide CMRS providers “cannot pass the costs of 988 georouting compliance onto their customers without jeopardizing their [Universal Service Fund] support.” RWA's cost estimates lack any specificity or detail for us to determine whether those costs, which are also provided in isolation, would indeed jeopardize their universal service support. Further, we did not propose any cost recovery mechanisms in the SFNPRM and we will not adopt any here. As explained in the analysis of benefits and costs section, the benefits of implementing georouting for wireless 988 calls significantly outweigh the costs to CMRS providers. Moreover, the rules we adopt are flexible and we encourage non-nationwide CMRS providers to develop the most cost effective georouting solution with the technical parameters set forth herein.

60. Customer Proprietary Network Information (CPNI) and Third Party Vendor Issues. EPIC asks the Commission to prohibit wireless providers from “sharing 988-related data even if the subscriber has opted in to sharing their CPNI” and to ensure that wireless providers and “their vendors meet basic cybersecurity requirements.” EPIC argues that the Commission has authority under § 222 of the Communications Act, as amended “to hold carriers responsible for safeguarding” CPNI. We agree that protecting the privacy and security of callers is imperative. The rules we adopt make clear that wireless providers must aggregate location data generated from cell-based technology to a sufficiently granular level to maintain caller privacy.

Procedural Matters

61. Regulatory Flexibility Act. The Regulatory Flexibility Act of 1980, as amended (RFA), requires that an agency prepare a regulatory flexibility analysis for notice and comment rulemakings, unless the agency certifies that “the rule will not, if promulgated, have a significant economic impact on a substantial number of small entities.” Accordingly, the Commission has prepared a Final Regulatory Flexibility Analysis (FRFA) concerning the potential impact of the rule and policy changes adopted in this Third Report and Order on small entities.

62. Paperwork Reduction Act Analysis. The Third Report and Order does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

63. Congressional Review Act. The Commission has determined, and the Administrator of the Office of Information and Regulatory Affairs, Office of Management and Budget concurs, that this rule is “non-major” under the Congressional Review Act, 5 U.S.C. 804(2). The Commission will send a copy of this Third Report and Order to Congress and the Government Accountability Office pursuant to 5 U.S.C. 801(a)(1)(A).

Final Regulatory Flexibility Analysis

64. As required by the Regulatory Flexibility Act of 1980, as amended (RFA), an Initial Regulatory Flexibility Analysis (IRFA) was incorporated in the Implementation of the National Suicide Hotline Act of 2018, Second Further Notice of Proposed Rulemaking (SFNPRM), 89 FR 46340 (May 29, 2024). The Commission sought written public comment on the proposals in the SFNPRM, including comments on the IRFA. The comments received are discussed below. This Final Regulatory Flexibility Analysis (FRFA) conforms to the RFA.

Need for, and Objectives of, the Report and Order

65. In the Third Report and Order, the Commission adopts rules to facilitate access to life-saving services for people in suicidal, mental health, and substance use crises by improving the routing of wireless calls to the 988 Lifeline. The 988 Lifeline was originally designed to route calls to crisis centers based on the area code and exchange associated with a caller's device. However, as technology trends have shifted from landline phones to mobile phones, many callers now seek help from the 988 Lifeline using wireless devices with area codes that may not correspond to their physical locations. Although the 988 Lifeline provides meaningful support for help-seekers regardless of their location, discrepancies between callers' physical locations and the area codes associated with their wireless devices can complicate access to local resources, which mental health advocates emphasize are critical to achieving the full life-saving potential of the 988 Lifeline.

66. The rules adopted in the Third Report and Order aim to facilitate access to critical local resources for the vast majority of wireless 988 callers by requiring wireless providers to implement georouting solutions for 988 calls. Specifically, the Third Report and Order requires that all Commercial Mobile Radio Service (CMRS) providers have the capability to provide georouting data with 988 calls to the Lifeline Administrator in a format that is compatible with the Lifeline's routing platform. The Commission defines “Lifeline Administrator” as the entity that “controls the 988 call routing platform pursuant to contract with the Substance Abuse Mental Health Services Administration.” The Third Report and Order also requires that all CMRS providers must provide georouting data, when available, with 988 calls to the Lifeline Administrator. These requirements will enable the 988 Lifeline to route wireless calls to appropriate crisis centers based on the geographic area associated with the origin of a 988 call, rather than by area code and exchange. With “georouting data” as defined under the Commission's rule, CMRS providers must aggregate location data generated from cell-based technology to a level that does not identify the location of the cell site and base station receiving the 988 call or otherwise specify the caller's precise location. The Third Report and Order adopts a 30 day timeline for nationwide CMRS providers to implement georouting for wireless 988 calls and provides 24 months for implementation by non-nationwide CMRS providers. Finally, the Third Report and Order revises the Commission's existing 988 voice and texting rules to permit routing to the national suicide prevention and mental health crisis hotline system without need for translation to the toll free access number. This revision will provide greater flexibility and help futureproof the use of 988 by enabling wireless providers to implement georouting solutions that may require broader routing parameters.

Summary of Significant Issues Raised by Public Comments in Response to the IRFA

67. There were no comments filed that specifically addressed the proposed rules and policies presented in the 988 Georouting Further Notice IRFA. However, several commenters discussed the potential impact of rules on non-nationwide CMRS providers.

68. The Competitive Carriers Association (CCA), Southern Communications Services, Inc. (Southern Linc), and the Rural Wireless Association (RWA) advocated for the Commission to give providers flexibility to account for their individual networks, the limitations of current georouting solutions, or the challenges faced by non-nationwide providers. In addition, RWA advocated for the Commission to allow small rural non-nationwide CMRS providers to implement georouting solutions on a voluntary basis. Alternatively, RWA called for the Commission to allow small rural non-nationwide CMRS providers additional time, funds to subsidize efforts, and flexibility in developing georouting solutions. Several commenters also urged the Commission to give non-nationwide CMRS providers sufficient time to implement georouting solutions. The approach taken by the Third Report and Order addresses these comments by adopting rules that allow wireless providers to build on the success of georouting solutions that have been developed with SAMHSA and the Lifeline Administrator, while also providing the flexibility for small and other providers to implement georouting solutions that account for their network capabilities and are compatible with the Lifeline's routing platform.

Response to Comments by the Chief Counsel for Advocacy of the Small Business Administration

69. Pursuant to the Small Business Jobs Act of 2010, which amended the RFA, the Commission is required to respond to any comments filed by the Chief Counsel for Advocacy of the Small Business Administration (SBA), and to provide a detailed statement of any change made to the proposed rules as a result of those comments. The Chief Counsel did not file any comments in response to the proposed rules in this proceeding.

Description and Estimate of the Number of Small Entities to Which the Rules Will Apply

70. The RFA directs agencies to provide a description of, and where feasible, an estimate of the number of small entities that may be affected by the rules adopted herein. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

71. Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 33.2 million businesses.

72. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

73. Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments (independent school districts) with enrollment populations of less than 50,000. Accordingly, based on the 2022 U.S. Census of Governments data, we estimate that at least 48,724 entities fall into the category of “small governmental jurisdictions.”

74. Wireless Carriers and Service Providers. Wireless Telecommunications Carriers (except Satellite) is the closest industry with a SBA small business size standard applicable to these service providers. The SBA small business size standard for this industry classifies a business as small if it has 1,500 or fewer employees. U.S. Census Bureau data for 2017 show that there were 2,893 firms that operated in this industry for the entire year. Of this number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

75. Wireless Communications Services. Wireless Communications Services (WCS) can be used for a variety of fixed, mobile, radiolocation, and digital audio broadcasting satellite services. Wireless spectrum is made available and licensed for the provision of wireless communications services in several frequency bands subject to part 27 of the Commission's rules. Wireless Telecommunications Carriers (except Satellite) is the closest industry with an SBA small business size standard applicable to these services. The SBA small business size standard for this industry classifies a business as small if it has 1,500 or fewer employees. U.S. Census Bureau data for 2017 show that there were 2,893 firms that operated in this industry for the entire year. Of this number, 2,837 firms employed fewer than 250 employees. Thus under the SBA size standard, the Commission estimates that a majority of licensees in this industry can be considered small.

76. The Commission's small business size standards with respect to WCS involve eligibility for bidding credits and installment payments in the auction of licenses for the various frequency bands included in WCS. When bidding credits are adopted for the auction of licenses in WCS frequency bands, such credits may be available to several types of small businesses based average gross revenues (small, very small and entrepreneur) pursuant to the competitive bidding rules adopted in conjunction with the requirements for the auction and/or as identified in the designated entities section in part 27 of the Commission's rules for the specific WCS frequency bands.

77. In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

78. Wireless Telephony. Wireless telephony includes cellular, personal communications services, and specialized mobile radio telephony carriers. The closest applicable industry with an SBA small business size standard is Wireless Telecommunications Carriers (except Satellite). The size standard for this industry under SBA rules is that a business is small if it has 1,500 or fewer employees. For this industry, U.S. Census Bureau data for 2017 show that there were 2,893 firms that operated for the entire year. Of this number, 2,837 firms employed fewer than 250 employees. Additionally, based on Commission data in the 2022 Universal Service Monitoring Report, as of December 31, 2021, there were 331 providers that reported they were engaged in the provision of cellular, personal communications services, and specialized mobile radio services. Of these providers, the Commission estimates that 255 providers have 1,500 or fewer employees. Consequently, using the SBA's small business size standard, most of these providers can be considered small entities.

79. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

80. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

81. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

82. Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were fixed local exchange service providers. Of these providers, the Commission estimates that 4,146 providers have 1,500 or fewer employees. Consequently, using the SBA's small business size standard, most of these providers can be considered small entities.

83. Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 1,212 providers that reported they were incumbent local exchange service providers. Of these providers, the Commission estimates that 916 providers have 1,500 or fewer employees. Consequently, using the SBA's small business size standard, the Commission estimates that the majority of incumbent local exchange carriers can be considered small entities.

84. Competitive Local Exchange Carriers (CLECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 3,378 providers that reported they were competitive local service providers. Of these providers, the Commission estimates that 3,230 providers have 1,500 or fewer employees. Consequently, using the SBA's small business size standard, most of these providers can be considered small entities.

85. Interexchange Carriers (IXCs). Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

86. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 207 providers that reported they were engaged in the provision of local resale services. Of these providers, the Commission estimates that 202 providers have 1,500 or fewer employees. Consequently, using the SBA's small business size standard, most of these providers can be considered small entities.

87. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 457 providers that reported they were engaged in the provision of toll services. Of these providers, the Commission estimates that 438 providers have 1,500 or fewer employees. Consequently, using the SBA's small business size standard, most of these providers can be considered small entities.

88. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 90 providers that reported they were engaged in the provision of other toll services. Of these providers, the Commission estimates that 87 providers have 1,500 or fewer employees. Consequently, using the SBA's small business size standard, most of these providers can be considered small entities.

89. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over Internet Protocol (VoIP) services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

90. Radio and Television Broadcasting and Wireless Communications Equipment Manufacturing. This industry comprises establishments primarily engaged in manufacturing radio and television broadcast and wireless communications equipment. Examples of products made by these establishments are: transmitting and receiving antennas, cable television equipment, GPS equipment, pagers, cellular phones, mobile communications equipment, and radio and television studio and broadcasting equipment. The SBA small business size standard for this industry classifies businesses having 1,250 employees or less as small. U.S. Census Bureau data for 2017 show that there were 656 firms in this industry that operated for the entire year. Of this number, 624 firms had fewer than 250 employees. Thus, under the SBA size standard, the majority of firms in this industry can be considered small.

91. Semiconductor and Related Device Manufacturing. This industry comprises establishments primarily engaged in manufacturing semiconductors and related solid state devices. Examples of products made by these establishments are integrated circuits, memory chips, microprocessors, diodes, transistors, solar cells and other optoelectronic devices. The SBA small business size standard for this industry classifies entities having 1,250 or fewer employees as small. U.S. Census Bureau data for 2017 show that there were 729 firms in this industry that operated for the entire year. Of this total, 673 firms operated with fewer than 250 employees. Thus under the SBA size standard, the majority of firms in this industry can be considered small.

92. Software Publishers. This industry comprises establishments primarily engaged in computer software publishing or publishing and reproduction. Establishments in this industry carry out operations necessary for producing and distributing computer software, such as designing, providing documentation, assisting in installation, and providing support services to software purchasers. These establishments may design, develop, and publish, or publish only. The SBA small business size standard for this industry classifies businesses having annual receipts of $47 million or less as small. U.S. Census Bureau data for 2017 indicate that 7,842 firms in this industry operated for the entire year. Of this number 7,226 firms had revenue of less than $25 million. Based on this data, we conclude that a majority of firms in this industry are small.

Description of Projected Reporting, Recordkeeping, and Other Compliance Requirements for Small Entities

93. The Third Report and Order adopts rules that require small and other wireless providers to implement georouting solutions for wireless 988 calls. Specifically, the Third Report and Order requires providers to have the capability to provide georouting data with 988 calls to the Lifeline Administrator in a format that is compatible with the Lifeline's routing platform. Additionally, small and other providers must provide georouting data, when available, with 988 calls sufficient to allow routing of the 988 call by the Lifeline Administrator to the appropriate crisis center based on the geographic area where the handset is located at the time the 988 call is initiated. The Third Report and Order also adopts a definition of georouting data that requires wireless providers to aggregate location data generated from cell-based location technology to a level that will not identify the location of the cell site or base station receiving the 988 call or otherwise identify the precise location of the handset.

94. In the SFNPRM, the Commission sought comment on the costs and benefits of deploying georouting solutions to help the Commission evaluate the impact of relevant proposals on small entities. We recognize that small providers may face operational limitations and costs when implementing georouting solutions for wireless 988 calls. However, the record reflects that nationwide CMRS providers have already developed and implemented or are in the process of implementing georouting solutions for wireless 988 calls, which can minimize cost implications for small entities by serving as models for georouting solutions. The Third Report and Order adopts rules that allow wireless providers flexibility to leverage these georouting solutions, and we expect that our approach will reduce compliance costs for wireless providers, including small entities. Moreover, we estimate that the public safety benefits resulting from the requirements adopted in the Third Report and Order far exceed implementation costs.

Steps Taken To Minimize the Significant Economic Impact on Small Entities, and Significant Alternatives Considered

95. The RFA requires an agency to provide, “a description of the steps the agency has taken to minimize the significant economic impact on small entities . . . including a statement of the factual, policy, and legal reasons for selecting the alternative adopted in the final rule and why each one of the other significant alternatives to the rule considered by the agency which affect the impact on small entities was rejected.”

96. The Third Report and Order adopts rules that are designed to give flexibility where appropriate to ensure that wireless providers, including small providers, can determine the best approach for compliance based on the needs of their networks. The Third Report and Order considers comments advocating for allowing the deployment of georouting solutions for wireless 988 calls on a purely voluntary basis. We conclude, however, that purely voluntary implementation undermines our goal of ensuring that the clear public interest benefits of georouting are realized nationwide in a timely manner. The Third Report and Order also declines to exempt non-nationwide CMRS providers as requested by RWA, but instead adopts flexible requirements that allow small and other wireless providers to leverage the georouting solutions that have been developed by nationwide providers in collaboration with SAMHSA and the Lifeline Administrator to implement technically feasible solutions that are compatible with the Lifeline's routing platform.

97. With respect to “georouting data,” the Third Report and Order adopts a definition that balances the need to maintain callers' privacy by not requiring wireless providers to transmit more precise geolocation data with wireless 988 calls, while still ensuring that the 988 Lifeline has sufficient aggregated location data to route wireless 988 calls to geographically appropriate crisis centers. We decline to require wireless providers to use a specific method for aggregating cell-based location data or to mandate one particular geographic boundary for georouting solutions, minimizing potential burdens by allowing small and other wireless providers flexibility to employ technically feasible options that are best suited for their networks to meet this requirement.

98. The Third Report and Order further minimizes the potential burdens of wireless providers, including small providers, by excluding 988 calls transmitted using roaming capabilities from application of the georouting requirements to account for technical limitations identified in the record. The Third Report and Order declines, however, to limit the application of georouting rules to voice calls carried end-to-end on IP networks, as requested by some commenters. Instead, we adopt requirements that minimize potential burdens by giving wireless providers the flexibility to work with the Lifeline Administrator on a case-by-case basis to address any individualized network considerations and by providing non-nationwide providers with an ample compliance time frame to develop technical solutions.

99. The Third Report and Order considers alternative georouting solutions that bypass the 988 Lifeline's centralized routing system but concludes that the benefits of centralized routing far outweigh the costs of localized routing. Specifically, we find that maintaining the 988 Lifeline's centralized routing process will help preserve the Lifeline Administrator's critical role in routing 988 calls to crisis centers, simplify the administration of the Lifeline, and allow for faster implementation of georouting solutions.

100. With respect to compliance timelines, the Third Report and Order adopts an implementation time frame for nationwide CMRS providers that aligns with the timelines identified for deploying the georouting solutions developed in coordination with SAMHSA and the Lifeline Administrator. To further reduce the burden on small entities and address technical and resource challenges, we grant a longer compliance timeline to non-nationwide CMRS providers. Specifically, we establish an implementation time frame following the effective date of the georouting rule of 30 days for nationwide CMRS providers and 24 months for all non-nationwide CMRS providers.

101. Further, the Third Report and Order gives wireless providers flexibility to implement georouting solutions that may require broader routing requirements by revising existing 988 voice and texting rules to permit routing to the national suicide prevention and mental health crisis hotline system without need for translation to the toll free access number. Finally, we decline the National Emergency Number Association's (NENA) request to establish an expiration date for the georouting requirements set forth in the Third Report and Order, but may consider technological developments in the future.

Report to Congress

102. The Commission will send a copy of the Third Report and Order, including this FRFA, in a report to be sent to Congress pursuant to the Congressional Review Act. In addition, the Commission will send a copy of the Third Report and Order, including this FRFA, to the Chief Counsel for Advocacy of the SBA. A copy of the Third Report and Order and FRFA (or summaries thereof) will also be published in the Federal Register.

Ordering Clauses

103. Accordingly, it is ordered that, pursuant to the authority found in §§ 1, 2, 4, 201, 218, 251(e), 301, 303, 307, 309(a), 316, 332 of the Communications Act of 1934, as amended, 47 U.S.C. 151, 152, 154, 154, 201, 218, 251(e), 301, 303, 307, 309(a), 316, and 332, this Report and Order is adopted and will become effective 30 days after publication in the Federal Register.

104. It is further ordered that part 52 of the Commission's rules is amended as set forth in appendix A, and such rule amendment will become effective 30 days after publication in the Federal Register.

105. It is further ordered that the Commission's Office of the Secretary, shall send a copy of this Third Report and Order, including the Final Regulatory Flexibility Analysis, to the Chief Counsel for Advocacy of the Small Business Administration.

106. It is further ordered that the Office of the Managing Director, Performance and Program Management, shall send a copy of this Third Report and Order in a report to be sent to Congress and the Government Accountability Office pursuant to the Congressional Review Act, see 5 U.S.C. 801(a)(1)(A).

List of Subjects in 47 CFR Part 52

Communications common carriers, Telecommunications, Telephone.

Federal Communications Commission.
Marlene Dortch,
Secretary.

Final Rules

For the reasons discussed in the preamble, the Federal Communications Commission amends 47 CFR part 52 as follows:

PART 52—NUMBERING

1. The authority citation for part 52 continues to read as follows:

Authority: 47 U.S.C. 151, 152, 153, 154, 155, 201-205, 207-209, 218, 225-227, 251-252, 271, 303, 332, unless otherwise noted.

2. Amend § 52.200 by revising paragraph (b) to read as follows:

§ 52.200 Designation of 988 for a National Suicide Prevention and Mental Health Crisis Hotline.

* * * * *

(b) All covered providers shall transmit all calls initiated by an end user dialing 988 to the national suicide prevention and mental health crisis hotline system maintained by the Assistant Secretary for Mental Health and Substance Use and the Secretary of Veterans Affairs.

* * * * *

3. Amend § 52.201 by revising paragraph (a) to read as follows:

§ 52.201 Texting to the National Suicide Prevention and Mental Health Crisis Hotline.

(a) Support for 988 text message service. Beginning July 16, 2022, all covered text providers must route a covered 988 text message to the national suicide prevention and mental health crisis hotline system maintained by the Assistant Secretary for Mental Health and the Secretary of Veterans Affairs.

* * * * *

4. Add § 52.202 to read as follows:

§ 52.202 Georouting of Wireless Calls to the National Suicide Prevention and Mental Health Crisis Hotline.

(a) Georouting. All CMRS providers must:

(1) Have the capability to provide georouting data with 988 calls to the Lifeline Administrator in a format that is compatible with the Lifeline's routing platform, to allow routing of the 988 call by the Lifeline Administrator to the appropriate crisis center based on the geographic area where the handset is located at the time the 988 call is initiated.

(2) Provide georouting data, when available, with 988 calls to the Lifeline Administrator sufficient to allow routing of the 988 call by the Lifeline Administrator to the appropriate crisis center based on the geographic area where the handset is located at the time the 988 call is initiated.

(b) Scope of section. The requirements of this section are only applicable to CMRS providers, excluding mobile satellite service (MSS) operators, to the extent that they:

(1)(i) Offer real-time, two way switched voice service that is interconnected with the public switched network; and

(ii) Use an in-network switching facility that enables the provider to reuse frequencies and accomplish seamless hand-offs of subscriber calls. These requirements are applicable to entities that offer voice service to consumers by purchasing airtime or capacity at wholesale rates from CMRS licensees.

(2) The requirements of this section do not apply to 988 calls transmitted using roaming capabilities.

(c) Compliance. (1) By 30 days after December 12, 2024: Nationwide CMRS providers shall provide georouting data with wireless 988 calls.

(2) By 24 months after December 12, 2024: All CMRS providers shall provide georouting data with wireless 988 calls.

(d) Definitions. For purposes of this section:

Commercial mobile radio service (CMRS). A mobile service that is:

(i)(A) Provided for profit, i.e., with the intent of receiving compensation or monetary gain;

(B) An interconnected service; and

(C) Available to the public, or to such classes of eligible users as to be effectively available to a substantial portion of the public; or

(ii) The functional equivalent of such a mobile service described in paragraph (i)(A) of this definition.

(iii) A variety of factors may be evaluated to make a determination whether the mobile service in question is the functional equivalent of a commercial mobile radio service, including: Consumer demand for the service to determine whether the service is closely substitutable for a commercial mobile radio service; whether changes in price for the service under examination, or for the comparable commercial mobile radio service, would prompt customers to change from one service to the other; and market research information identifying the targeted market for the service under review.

(iv) Unlicensed radio frequency devices under part 15 of this chapter are excluded from this definition of Commercial mobile radio service.

Georouting data. Location data generated from cell-based location technology that is aggregated to a level that will not identify the location of the cell site or base station receiving the 988 call or otherwise identify the precise location of the handset.

Lifeline Administrator. The Lifeline Administrator controls the 988 call routing platform pursuant to contract with the Substance Abuse Mental Health Services Administration.

Nationwide CMRS provider. A CMRS provider whose service extends to a majority of the population and land area of the United States.

Non-nationwide CMRS provider. Any CMRS provider other than a nationwide CMRS provider.

[FR Doc. 2024-25912 Filed 11-8-24; 8:45 am]

BILLING CODE 6712-01-P